DEPARTMENT OF TRANSPORTATION

Federal Aviation Administration

Membership in the National Parks Overflight Advisory Group Aviation Rulemaking Committee

ACTION: Notice; correction.

SUMMARY: This document makes a correction to the notice published in the Federal Register announcing an opening on the National Parks Overflight Advisory Group Aviation Rulemaking Committee representing Indian Tribal interests. In that notice, there was no closing date included for nominations. This notice corrects that oversight.

Effective Date: This correction is effective on December 5, 2005.

FOR FURTHER INFORMATION CONTACT: Barry Brayer, Manager, Executive Resource Staff, Western Pacific Region, telephone: (310) 725-3800.

Correction

In the notice FR Doc. 05-17385 published on September 1, 2005 (70 FR 52152), make the following correction:

1. On page 52153, in column 2, fifth line from the top of the page, correct the sentence “Requests to serve on the NPOAG ARC should be made in writing and postmarked on or before.” to read “Requests to serve on the NPOAG ARC should be made in writing and postmarked on or before December 9, 2005.”

Issued in Washington, DC on November 29, 2005.
Tony Fazio,
Director, Office of Rulemaking.

[FR Doc. E5-6797 Filed 12-2-05; 8:45 am]

BILLING CODE 4910-13-P